DEPARTMENT OF AGRICULTURE

Foreign Agricultural Service

Trade Adjustment Assistance for Farmers

AGENCY: Foreign Agricultural Service, USDA.

ACTION: Notice.

The Administrator, Foreign Agricultural Service (FAS), re-certified the trade adjustment assistance (TAA) petition that was filed by the Tropical Fruit Growers of South Florida, Inc., representing a group of fresh lychee producers in Florida initially certified on April 5, 2004. Lychee producers in Florida who produce and market their lychees in Florida will be eligible to apply for fiscal year 2005 benefits during a 90-day period beginning on April 4, 2005. The application period closes on July 5, 2005.

SUPPLEMENTARY INFORMATION: Upon investigation, the Administrator determined that continued increases in imports of like or directly competitive products contributed importantly to a decline in the average price of lychees in Florida by 62.0 percent during the 2004 marketing period (January-December 2004), compared to the 1998-2002 base period. Eligible producers may request technical assistance from the Extension Service at no cost and receive an adjustment assistance payment, if certain program criteria are satisfied. Producers in fiscal year 2005 who did not receive technical assistance under the fiscal year 2004 TAA program must obtain the technical assistance from the Extension Service by September 30, 2005, in order to be eligible for financial payments.

Producers of raw agricultural commodities wishing to learn more about TAA and how they may apply should contact the Department of Agriculture at the addresses provided below for General Information.

Producers Certified as Eligible For TAA, Contact: Farm Service Agency service centers.

For General Information About TAA, Contact: Jean-Louis Pajot, Coordinator, Trade Adjustment Assistance for Farmers, FAS, USDA, (202) 720-2916, e-mail: trade.adjustment@fas.usda.gov.

Dated: April 5, 2005.
Kenneth J. Roberts,
Acting Administrator, Foreign Agricultural Service.

[FR Doc. 05-7648 Filed 4-15-05; 8:45 am]

BILLING CODE 3410-10-P